DEPARTMENT OF TRANSPORTATION

Federal Highway Administration

Environmental Impact Statement: Somerset County, Pennsylvania and Garrett County, MD

AGENCY: Federal Highway Administration (FHWA), DOT.

ACTION: Notice of intent.

SUMMARY: The FHWA is issuing this notice to advise the public that an Environmental Impact Statement will be prepared for a proposed transportation project along Section 019 of U.S. 219. This section extends from the southern terminus of the Meyersdale Bypass in Somerset County, Pennsylvania to I-68 in Garrett County, Maryland.

FOR FURTHER INFORMATION CONTACT: David W. Cough P.E., Director of Operations, Federal Highway Administration, Pennsylvania Division Office, 228 Walnut Street, Room 508, Harrisburg, Pennsylvania, 17101-1720, Telephone: (717) 221-3411; David L. Sherman, P.E., Project Manager, Pennsylvania Department of Transportation, Engineering District 9, 1620 North Juniata Street, Hollidaysburg, Pennsylvania, 16648, Telephone: (814) 696-7170; or Russell Walto, P.E., Project Manager, Maryland State Highway Administration, 707 North Calvert Street, Mailstop C-301, Baltimore, Maryland 21202, Telephone: (410) 545-8547.

SUPPLEMENTARY INFORMATION: The FHWA, in cooperation with the Pennsylvania Department of Transportation (PENNDOT) and the Maryland State Highway Administration (SHA), will conduct a Design Location Study and will prepare an Environmental Impact Statement (EIS) to evaluate alternatives that upgrade the current two-lane transportation system. The study area will extend from the southern terminus of the Meyersdale Bypass in Somerset County, Pennsylvania to I-68 in Garrett County, Maryland. The corridor is approximately 8.1 miles in length.

The initial stage of this process is for development of conceptual alternatives. A range of conceptual alternatives will be developed and examined within the context of the identified project needs, environmental and socioeconomic constraints, and public input, as well as their consistency with county and municipal plans and policies. Alternatives to be examined will include the No-Build Alternative as well as Build Alternatives. This analysis will be used to refine the alternatives or eliminate a particular alternative(s) from further consideration due to the potential for socio-economic, environmental, or engineering impacts. This stage of the study will result in a Preliminary Alternatives Analysis Report.

Following the preliminary analysis, the alternatives that are recommended for further study will be developed in greater detail and the environmental impacts for each will be assessed and described in the Environmental Impact Statement.

Letters describing the proposed action and soliciting comments will be sent to appropriate federal, state, and local agencies, and to private organizations and citizens who express an interest in the proposal. Public involvement and inter-agency coordination will be maintained throughout the development of the study. Public notices of the time and place of the public meetings and any required public hearings will be provided.

To ensure that the full range of issues related to this proposed action is addressed and that all significant issues are identified, comments and suggestions are invited form interested parties. Comments or questions concerning this proposed action and the EIS should be directed to the FHWA, PENNDOT, or MDSHA at the addresses provided above.

(Catalog of Federal Domestic Assistance Program Number 20.205, Highway Research, Planning, and Construction. The regulations implementing Executive Order 12372 regarding intergovernmental consultation on federal programs and activities apply to this program.)
Dated: October 10, 2003.
David C. Lawton,
Assistant Division Administrator, Harrisburg, Pennsylvania.

[FR Doc. 03-26273 Filed 10-16-03; 8:45 am]

BILLING CODE 4910-22-M